DEPARTMENT OF THE INTERIOR

Bureau of Land Management

[BLM_NM_FRN_MO4500175885; NMNM-144081]

Notice of Realty Action: Non-Competitive (Direct) Land Sale in Eddy County, New Mexico

AGENCY: Bureau of Land Management, Interior.

ACTION: Notice of realty action.

SUMMARY: The Bureau of Land Management (BLM) Carlsbad Field Office is proposing a non-competitive direct sale of 199.89 acres of public land in Eddy County, New Mexico, to the county. The purpose of the sale is for the county to build a light industrial, commercial, and retail activity area. The sale would be subject to the applicable provisions of the Federal Land Policy and Management Act of 1976 (FLPMA), as amended, and BLM land sale regulations. The sale would be for no less than the appraised fair market value of $1.3 million.

DATES: Interested parties may submit written comments until January 13, 2025.

ADDRESSES: Send written comments to the BLM Field Manager, Carlsbad Field Office, 620 East Greene Street, Carlsbad, New Mexico 88220, or submit them online at https://eplanning.blm.gov/eplanning-ui/admin/project/2026187/510.

FOR FURTHER INFORMATION CONTACT: BLM Realty Specialist Tessa Telles at telephone: (575) 234-5980, email: ttelles@blm.gov. Individuals in the United States who are deaf, deafblind, hard of hearing, or have a speech disability may dial 711 (TTY, TDD, or TeleBraille) to access telecommunications relay services for contacting Ms. Telles. Individuals outside the United States should use the relay services offered within their country to make international calls to the point-of-contact in the United States.

SUPPLEMENTARY INFORMATION: The parcel is east of Carlsbad, New Mexico, and is legally described as:

New Mexico Principal Meridian, New Mexico

T. 22 S., R. 27 E.,

sec. 3, lot 2, SW¼NE¼, NW¼SE¼, and S½SE¼.

The area described contains 199.89 acres, according to the official plat of the survey of the said land on file with the BLM.

Facilities proposed for the sale parcel include a light industrial, commercial, and retail activity area, possibly a fire station, and related appurtenances. The area will support through traffic and enable expansion of businesses along the relief route. This planned development has the potential to create hundreds of service jobs in the area.

The proposed sale conforms and is consistent with the BLM Carlsbad Field Office Resource Management Plan (RMP), approved in September 2008. The lands are identified as available for disposal and listed by the legal description in Appendix R-11 of the RMP. A parcel-specific environmental assessment (EA), document number DOI-BLM-NM-P020-2023-0918-EA, was prepared in connection with this realty action and may be viewed at https://eplanning.blm.gov/eplanning-ui/admin/project/2026187/510.

The EA, appraisal, maps, and environmental site assessment are in case file NMNM-144081, which is in the BLM Carlsbad Field Office at the above address. In addition to publication in the Federal Register, the BLM will also publish this notice in the Carlsbad Current Argus newspaper once a week for 3 consecutive weeks.

The land is suitable for direct sale under FLPMA, without competition, consistent with 43 CFR 2711.3-3(a)(2), as direct sales may be used when, in the opinion of the authorized officer, a competitive sale is not appropriate and the public interest would best be served by a direct sale, including when “a tract identified for sale that is an integral part of a project or public importance and speculative bidding would jeopardize a timely completion and economic viability of the project.”

Pursuant to the requirements of 43 CFR 2711.1-2(d), publication of this notice in the Federal Register segregates the land from all forms of appropriation under the public land laws, including the mining laws, except for the sale provisions of FLPMA. Until completion of the sale, the BLM will no longer accept land use applications affecting this public land. The segregative effect will terminate upon issuance of a patent, publication in the Federal Register of termination of the segregation, or on November 30, 2026, unless extended by the BLM New Mexico State Director in accordance with 43 CFR 2711.1-2(d) prior to the termination date.

The land is not required for any Federal purpose. The conveyance of the public land shall be subject to valid existing rights. Subject to limitations prescribed by law and regulations, prior to patent issuance, a holder of any right-of-way within the conveyance area may be given the opportunity to amend the right-of-way for conversion to a new term, including perpetuity, if applicable. The conveyance, if issued, will be subject to provisions of the non-competitive direct land sale and applicable regulations of the Secretary of the Interior, and will contain the following terms, conditions, and reservations to the United States:

1. A right-of-way thereon for ditches or canals constructed by the authority of the United States, Act of August 30, 1890 (43 U.S.C. 945);

2. All minerals shall be reserved to the United States, together with the right to prospect for, mine, and remove such deposits from the same under applicable law and such regulations as the Secretary of the Interior may prescribe;

3. All valid existing rights;

4. Oil and gas leases NMNM 0473303A and NMNM 04540182 Simultaneous Public Domain Lease;

5. Telephone line rights-of-way NMNM 0050127 and NMNM 040745 issued to Windstream Communications Inc., its successors or assigns, pursuant to the Act of February 25, 1920 (30 U.S.C. 181);

6. Water plant rights-of-way NMNM 097956 and NMNM 053860 issued to the City of Carlsbad, its successors or assigns, pursuant to the Act of February 25, 1920 (30 U.S.C. 181);

7. Water facility right-of-way NMNM 034163 issued to Broom Transportation, its successors or assigns, pursuant to the Act of February 25, 1920 (30 U.S.C. 181);

8. Gas pipeline right-of-way NMNM 018923 issued to Enterprise Field Services, LLC, its successors or assigns, pursuant to the Act of February 25, 1920 (30 U.S.C. 181);

9. Telephone line right-of-way NMNM 040746 issued to Valor Telecommunications of Texas LP, its successors or assigns, pursuant to the Act of February 25, 1920 (30 U.S.C. 181);

10. Gas pipeline rights-of-way NMNM 108380, NMNM 110691, and NMNM 111334 issued to DCP Operating Company, LP, its successors or assigns, pursuant to the Act of February 25, 1920 (30 U.S.C. 181); and

11. An appropriate indemnification clause protecting the United States from claims arising out of the patentee's use, occupancy, or occupations on the patented lands. It will also contain any other terms and conditions deemed necessary and appropriate by the Authorized Officer.

Any adverse comments will be reviewed by the BLM New Mexico State Director, who may sustain, vacate, or modify this realty action. In the absence of any adverse comments, the decision will become effective on January 28, 2025. Before including your address, phone number, email address, or other personal identifying information in your comment, you should be aware that your entire comment—including your personal identifying information—may be made publicly available at any time. While you can ask us in your comment to withhold your personal identifying information from public review, we cannot guarantee that we will be able to do so. Only written comments submitted to the BLM Carlsbad Field Manager will be considered properly filed.

(Authority: 43 CFR part 2710)

Melanie G. Barnes,
State Director.

[FR Doc. 2024-27986 Filed 11-27-24; 8:45 am]

BILLING CODE 4331-23-P